DEPARTMENT OF DEFENSE

Office of the Secretary

[Docket ID DoD-2016-OS-0047]

Proposed Collection; Comment Request

AGENCY: Office of the Under Secretary of Defense for Acquisition, Technology and Logistics, DoD.

ACTION: Notice.

SUMMARY: In compliance with the Paperwork Reduction Act of 1995, the Office of the Assistant Secretary of Defense for Research and Engineering announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 27, 2016.

ADDRESSES: You may submit comments, identified by docket number and title, by any of the following methods:

• Federal eRulemaking Portal: http://www.regulations.gov. Follow the instructions for submitting comments.

• Mail: ODCMO, Directorate for Oversight and Compliance, 4800 Mark Center Drive, ATTN: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of Defense Basic Research Office, ATTN: Wade Wargo, 4800 Mark Center Drive, Suite 17C08, Alexandria, VA 22350-3600, or call Wade Wargo at 571-372-2941.

SUPPLEMENTARY INFORMATION:

Title; Associated Form; and OMB Number: Representations to Implement Appropriation Act Provisions on Felony Convictions and Unpaid Federal Tax Liabilities, OMB Control Number 0704-0494.

Needs and Uses: The information collection requirement is necessary to enable DoD awarding officials to exercise due diligence and continue to comply with provisions found in Sections 745 and 746 of the Financial Services and General Government Appropriations Act, 2016 (Division E of Pub. L. 114-113, the Consolidated Appropriations Act, 2016), as well as similar provisions that future years' appropriations acts may include. The requirements of these provisions were originally enacted in three Fiscal Year (FY) 2012 appropriations acts that made funds available to DoD Components for obligation. The details of the provisions in the three FY 2012 acts varied somewhat but they generally required DoD to consider suspension or debarment before using appropriated funding to enter into a grant or cooperative agreement with a corporation if the awarding official was aware that the corporation had an unpaid federal tax liability or was convicted of a felony criminal violation within the preceding 24 months. The FY 2012 provisions were in:

• Sections 8124 and 8125 of the Department of Defense Appropriations Act, 2012 (Division A of Pub. L. 112-74, the Consolidated Appropriations Act, 2012);

• Section 514 of the Military Construction and Veterans Affairs and Related Agencies Appropriations Act, 2012 (Division H of Pub. L. 112-74); and

• Sections 504 and 505 of the Energy and Water Development Appropriations Act, 2012 (Division B of Pub. L. 112-74).

Generally, the requirements related to these provisions of the FY 2012 appropriations acts have been included in each subsequent fiscal year's appropriations acts. Since FY 2015, the provisions related to felony convictions and unpaid federal tax liabilities have been enacted in the government-wide general provisions portion of the Financial Services and General Government Appropriations Act.

Affected Public: Not-For-Profit institutions; Individuals or Households; Business or Other For-Profit; Farms; Federal Government; or State, Local or Tribal Government.

Annual Burden Hours: 1,250.

Number of Respondents: 2,500.

Responses per Respondent: 6.

Annual Responses: 15,000.

Average Burden per Response: 5.

Frequency: On occasion.

Respondents are entities submitting applications or proposals to Department of Defense Components that may result in the award of grants or cooperative agreements. Under a competitive program, each entity will be required to submit representations with its application or proposal to disclose whether it is a corporation that has an outstanding tax liability or has been convicted of a felony criminal violation within the past 24 months. Most applicants for DoD awards submit electronic applications through Grants.gov and the representations would be electronically attached to the applicant's SF 424 (OMB Control Number 4040-0004).

A memorandum to DoD Components from the Assistant Secretary of Defense for Research and Engineering specifies wording of the representations to be used for continuing obligations of FY 2012 appropriations and provides guidance on tailoring of the wording, if needed, to conform to provisions of future appropriations acts. The memorandum may be viewed at the DoD Basic Research Office Web site (http://www.acq.osd.mil/rd/basic_research/funding/documents/appropriations_act_provisions.pdf).

An awarding official prior to making a grant or cooperative agreement award will use the information provided by the representations in judging whether the entity recommended to receive the award is eligible to do so—i.e., to decide whether the agency must first consider suspension or debarment of the entity and determine that further action is not necessary to protect the interests of the Government. An entity that fails to submit a required representation therefore will be ineligible to receive a grant or cooperative agreement from the agency.

Dated: April 21, 2016.
Aaron Siegel,
Alternate OSD Federal Register Liaison Officer, Department of Defense.

[FR Doc. 2016-09652 Filed 4-25-16; 8:45 am]

BILLING CODE 5001-06-P